DEPARTMENT OF AGRICULTURE

Rural Business-Cooperative Service

Maximum Dollar Amount on Awards Under the Rural Economic Development Loan and Grant Program for Fiscal Year 2005

AGENCY: Rural Business-Cooperative Service, USDA.

ACTION: Notice.

SUMMARY: The Rural Business-Cooperative Service hereby announces the maximum dollar amount on loan and grant awards under the Rural Economic Development Loan and Grant (REDLG) program for fiscal year (FY) 2005. The maximum dollar award on zero-interest loans for FY 2005 is $740,000. The maximum dollar award on grants for FY 2005 is $300,000. The maximum loan and grant awards stated in this notice are effective for loans and grants made during the fiscal year beginning October 1, 2004, and ending September 30, 2005. REDLG loans and grants are available to Rural Utilities Service electric and telephone utilities to assist in developing rural areas from an economic standpoint.

FOR FURTHER INFORMATION CONTACT: Kenya Nicholas, Loan Specialist, Rural Business-Cooperative Service, USDA, STOP 3225, Room 6866, 1400 Independence Avenue, SW., Washington, DC 20250-3225. Telephone: (202) 720-1970 FAX: (202) 720-2213.

ADDRESSES: For further information, entities wishing to apply for assistance should contact a Rural Development State Office to receive further information and copies of the application package. A list of Rural Development State Offices follows:

District of Columbia

Rural Business-Cooperative Service, USDA, Specialty Lenders Division, 1400 Independence Avenue, SW., STOP 3225, Room 6867, Washington, DC 20250-3225, (202) 720-1400.

Alabama

USDA Rural Development State Office, Sterling Center, Suite 601, 4121 Carmichael Road, Montgomery, AL 36106-3683, (334) 279-3400/TTD (334) 279-3495.

Alaska

USDA Rural Development State Office, 800 West Evergreen, Suite 201, Palmer, AK 99645-6539, (907) 761-7705/TDD (907) 761-8905.

Arizona

USDA Rural Development State Office, Phoenix Corporate Center, 230 N. First Ave., Suite 206, Phoenix, AZ 85003-1706, (602) 280-8700/TTD (602) 280-8705.

Arkansas

USDA Rural Development State Office, USDA Service Center, 700 West Capitol Avenue, Room 3416, Little Rock, AR 72201-3225, (501) 301-3200/TTD (501) 301-3279.

California

USDA Rural Development State Office, 430 G Street, Agency 4169, Davis, CA 95616-4169, (530) 792-5800/TTD (530) 792-5848.

Colorado

USDA Rural Development State Office, 655 Parfet Street, Room E-100, Lakewood, CO 80215, (720) 544-2903/TDD (720) 544-2976.

Delaware-Maryland

USDA Rural Development State Office, 4607 South DuPont Highway, P.O. Box 400, Camden, DE 19934-9998, (302) 697-4300/TDD (302) 697-4303.

Florida/Virgin Islands

USDA Rural Development State Office, P.O. Box 147010, 4440 NW. 25th Place, Gainesville, FL 32606, (352) 338-3402/TDD (352) 338-3499.

Georgia

USDA Rural Development State Office, Stephens Federal Building, 355 E. Hancock Avenue, Athens, GA 30601-2768, (706) 546-2162/TDD (706) 546-2034.

Hawaii

USDA Rural Development State Office, Federal Building, Room 311, 154 Waianuenue Avenue, Hilo, HI 96720, (808) 933-8380/TDD (808) 933-8321.

Idaho

USDA Rural Development State Office, 9173 West Barnes Dr., Suite A1, Boise, ID 83709, (208) 378-5600/TDD (208) 378-5644.

Illinois

USDA Rural Development State Office, 2118 West Park Court, Suite A, Champaign, IL 61821, (217) 403-6202/TDD (217) 403-6240.

Indiana

USDA Rural Development State Office, 5975 Lakeside Boulevard, Indianapolis, IN 46278-1996, (317) 290-3100/TDD (317) 290-3340.

Iowa

USDA Rural Development State Office, Federal Building, Room 873, 210 Walnut Street, Des Moines, IA 50309-2196, (515) 284-4663/TDD (515) 284-4558.

Kansas

USDA Rural Development State Office, Suite 100, 1303 SW., First American Place, Topeka, KS 66604, (785) 271-2700/TDD (785) 271-2767.

Kentucky

USDA Rural Development State Office, 771 Corporate Drive, Suite 200, Lexington, KY 40503-5477, (859) 224-7300/TDD (859) 224-7422.

Louisiana

USDA Rural Development State Office, 3727 Government Street, Alexandria, LA 71302, (318) 473-7921/TDD (318) 473-7655.

Maine

USDA Rural Development State Office, P.O. Box 405, 967 Illinois Avenue, Suite 4, Bangor, ME 04402-0405, (207) 990-9160/TTD (207) 942-7331.

Massachusetts/Rhode Island/Connecticut

USDA Rural Development State Office, 451 West Street, Suite 2, Amherst, MA 01002-2999, (413) 253-4300/TDD (413) 253-4318.

Michigan

USDA Rural Development State Office, 3001 Coolidge Road, Suite 200, East Lansing, MI 48823. (517) 324-5190/TDD (517) 337-6795.

Minnesota

USDA Rural Development State Office, 410 Farm Credit Service Building, 375 Jackson Street, St. Paul, MN 55101-1853, (651) 602-7800/TDD (651) 602-3799.

Mississippi

USDA Rural Development State Office, Federal Building, Suite 831, 100 West Capitol Street, Jackson, MS 39269, (601) 965-4318/TDD (601) 965-5850.

Missouri

USDA Rural Development State Office, 601 Business Loop 70 West, Parkade Center, Suite 235, Columbia, MO 65203, (573) 876-0976/TDD (573) 876-9480.

Montana

USDA Rural Development State Office, P. O. Box 850, 900 Technology Blvd., Unit 1, Suite B, Bozeman, MT 59771, (406) 585-2580/TDD (406) 585-2562.

Nebraska

USDA Rural Development State Office, Federal Building, Room 152, 100 Centennial Mall North, Lincoln, NE., 68508, (402) 437-5551/TDD (402) 437-5093.

Nevada

USDA Rural Development State Office, 1390 South Curry Street, Carson City, NV 89703-9910, (775) 887-1222/TDD (775) 885-0633.

New Jersey

USDA Rural Development State Office, 5th Floor North, Suite 500, 8000 Midlantic Drive, Mt. Laurel, NJ 08054, (856) 787-7700.

New Mexico

USDA Rural Development State Office, 6200 Jefferson Street, NE., Room 255, Albuquerque, NM 87109, (505) 761-4950/TDD (505) 761-4938.

New York

USDA Rural Development State Office, The Galleries of Syracuse, 441 South Salina Street, Suite 357, Syracuse, NY 13202-2541, (315) 477-6435/TDD (315) 477-6447.

North Carolina

USDA Rural Development State Office, 4405 Bland Road, Suite 260, Raleigh, NC 27609, (919) 873-2000/TDD (919) 873-2003.

North Dakota

USDA Rural Development State Office, P.O. Box 1737, Federal Building, Room 208, 220 East Rosser Avenue, Bismarck, ND 58502-1737, (701) 530-2037/TDD (701) 530-2113.

Ohio

USDA Rural Development State Office, Federal Building, Room 507, 200 North High Street, Columbus, OH 43215-2418, (614) 255-2500/TDD (614) 255-2554.

Oklahoma

USDA Rural Development State Office, 100 USDA, Suite 108, Stillwater, OK 74074-2654, (405) 742-1000/TDD (405) 742-1007.

Oregon

USDA Rural Development State Office, 101 SW., Main Street, Suite 1410, Portland, OR 97204-3222, (503) 414-3300/TDD (503) 414-3387.

Pennsylvania

USDA Rural Development State Office, One Credit Union Place, Suite 330, Harrisburg, PA 17110-2996, (717) 237-2299/TDD (717) 237-2261.

Puerto Rico

USDA Rural Development State Office, 654 Munoz Rivera Avenue, IBM Building, Suite 601, San Juan, Puerto Rico 00918-6106, (787) 766-5095/TDD (787) 766-5332.

South Carolina

USDA Rural Development State Office, Strom Thurmond Federal Building, 1835 Assembly Street, Room 1007, Columbia, SC 29201, (803) 765-5163/TDD (803) 765-5697.

South Dakota

USDA Rural Development State Office, Federal Building, Room 210, 200 4th Street, SW., Huron, SD 57350, (605) 352-1100/TDD (605) 352-1147.

Tennessee

USDA Rural Development State Office, 3322 West End Avenue, Suite 300, Nashville, TN 37203-1084, (615) 783-1300.

Texas

USDA Rural Development State Office, Federal Building, Suite 102, 101 South Main Street, Temple, TX 76501, (254) 742-9700/TDD (254) 742-9712.

Utah

USDA Rural Development State Office, Wallace F. Bennett Federal Building, 125 South State Street, Room 4311, Salt Lake City, UT 84138, (801) 524-4320/TDD (801) 524-3309.

Vermont/New Hampshire

USDA Rural Development State Office, City Center, 3rd Floor, 89 Main Street, Montpelier, VT 05602, (802) 828-6010/TDD (802) 223-6365.

Virginia

USDA Rural Development State Office, Culpeper Building, Suite 238, 1606 Santa Rosa Road, Richmond, VA 23229-5014, (804) 287-1552/ TDD (804) 287-1753.

Washington

USDA Rural Development State Office, 1835 Black Lake Boulevard, SW., Suite B, Olympia, WA 98512-5715, (360) 704-7715.

West Virginia

USDA Rural Development State Office, Federal Building, 75 High Street, Room 320, Morgantown, WV 26505-7500, (304) 284-4860/TDD (304) 284-4836.

Wisconsin

USDA Rural Development State Office, 4949 Kirschling Court, Stevens Point, WI 54481, (715) 345-7615/TDD (715) 345-7614.

Wyoming

USDA Rural Development State Office, Federal Building, Room 1005, 100 East B Street, Casper, WY 82601, (307) 233-6700/TDD (307) 233-6733.

SUPPLEMENTARY INFORMATION: The maximum loan and grant awards are determined in accordance with 7 CFR 1703.28. The maximum loan and grant awards are calculated as 3.0 percent of the projected program levels, rounded to the nearest $10,000; however, as specified in 7 CFR 1703.28(b), regardless of the projected total amount that will be available, the maximum size may not be lower than $200,000. The projected program level during FY 2005 for zero-interest loans is $24,802,640, and the projected program level for grants is $10,000,000. Applying the specified 3.0 percent to the program level for loans, rounded to the nearest $10,000, results in the maximum loan award of $740,000. Applying the specified 3.0 percent to the program level for grants results in an amount higher than $200,000. Therefore, the maximum grant award for FY 2005 will be $300,000. This notice will be amended should funding in excess of projected levels be received.

Nondiscrimination Statement

“The U.S. Department of Agriculture (USDA) (Departmental Regulation 4300-3), prohibits discrimination in all its programs and activities on the basis of race, color, national origin, sex, religion, age, disability, political beliefs, sexual orientation, or marital or family status in employment or in any program or activity conducted or funded by the Department. (Not all prohibited bases apply to all programs.) Persons with disabilities who require alternative means for communication of program information (Braille, large print, audiotape, etc.) should contact USDA's TARGET Center at (202) 720-2600 (voice and TDD).

To file a complaint of discrimination, write to USDA, Director, Office of Civil Rights, STOP 9410, Room 326-W, Whitten Building, 1400 Independence Avenue, SW., Washington, DC 20250-9410 or call (202) 720-5964 (voice and TDD). USDA is an equal opportunity provider and employer.”

Dated: February 23, 2005.
Peter J. Thomas,
Administrator, Rural Business-Cooperative Service.

[FR Doc. 05-5124 Filed 3-15-05; 8:45 am]

BILLING CODE 3410-XY-P